DEPARTMENT OF THE INTERIOR

Fish and Wildlife Service

Alligator River National Wildlife Refuge

AGENCY: Fish and Wildlife Service, Interior.

ACTION: Notice of availability of the Draft Comprehensive Conservation Plan and Environmental Assessment for Alligator River National Wildlife Refuge in Dare and Hyde Counties, North Carolina.

SUMMARY: The Fish and Wildlife Service announces that a Draft Comprehensive Conservation Plan and Environmental Assessment (Draft CCP/EA) for the Alligator River National Wildlife Refuge are available for review and comment. This Draft CCP/EA was prepared pursuant to the National Wildlife Refuge System Administration Act, as amended, and the National Environmental Policy Act. The Draft CCP/EA describes the Service's proposal for management of the refuge for 15 years.

DATES: Written comments must be received at the postal or electronic addresses listed below no later than June 29, 2006.

ADDRESSES: Requests for copies of the Draft CCP/EA should be addressed to: Bonnie Strawser, CCP, Alligator River National Wildlife Refuge, P.O. Box 1969, Manteo, North Carolina 27954; Telephone 252/473-1131, extension 230. Comments on the draft plan may be submitted to the above address or via electronic mail to: bonnie_strawser@fws.gov.

SUPPLEMENTARY INFORMATION: The National Wildlife Refuge System Administration Act of 1966, as amended by the National Wildlife Refuge System Improvement Act of 1997 (16 U.S.C. 668dd-668ee), requires the Service to develop a plan for each refuge. The purpose in developing a comprehensive conservation plan is to provide refuge managers with a 15-year strategy for achieving refuge purposes and contributing toward the mission of the National Wildlife Refuge System, consistent with sound principles of fish and wildlife management, conservation, legal mandates, and Service policies. In addition to outlining broad management direction on conserving wildlife and their habitats, plans identify wildlife-dependent recreational opportunities available to the public, including opportunities for hunting, fishing, wildlife observation, wildlife photography, environmental education and interpretation.

The staffing and funding for Alligator River National Wildlife Refuge support both Alligator River and Pea Island National Wildlife Refuges as a complex.

Alternatives

The Service developed and analyzed three alternatives for managing the refuge and chose Alternative 2 as the proposed alternative.The proposed action is to adopt and implement a comprehensive conservation plan for the refuge that best achieves the refuge's purpose, vision, and goals; contributes to the National Wildlife Refuge System mission; addresses the significant issues and relevant mandates; and is consistent with principles of sound fish and wildlife management.

Alternative 1 is a proposal to maintain the current management. The refuge currently manages its impoundments intensively by managing water levels and vegetation to create optimum habitat for migrating waterfowl, shorebirds, wading birds, and aquatic organisms. It also manages marshes and pine forests with prescribed fire. The staff surveys waterfowl, shorebirds, and wading birds on a routine basis. The refuge allows the six priority public use activities: Hunting, fishing, wildlife observation, wildlife photography, and environmental education and interpretation. The staff conducts extensive environmental education and interpretation programs with the assistance of 10,000 hours of volunteer service every year.Tthe total complex staff consists of 26 positions, with 19.7 of these assigned to manage Alligator River Refuge. The staff manages the refuge from a rented building in Manteo, 10 miles east of the refuge.

Alternative 2, the proposed alternative, proposes moderate program increases. The refuge would continue to manage its impoundments intensively by managing water levels and vegetation to create optimum habitat for migrating waterfowl, shorebirds, wading birds, and aquatic organisms. The marshes and pine forests would be managed with prescribed fire. The staff would inventory and monitor fire-dependent habitats to document their conditions and assess the effectiveness of management. Waterfowl, shorebirds, and wading birds would be surveyed on a routine basis. The staff would also document the presence of wildlife species as they are found and document the density of invertebrates in moist-soil units. The refuge would allow the six priority public use activities: hunting, fishing, wildlife observation, wildlife photography, and environmental education and interpretation. The staff would conduct extensive environmental education and interpretation programs with the assistance of 12,000 hours of volunteer service every year. Programs would be conducted on the refuge and in the newly constructed visitor center. Under this alternative, the refuge staff would be increased by 7.05 positions, for a total of 26.75 positions to manage Alligator River Refuge. The staff would manage the refuge from a Service-owned building in Manteo, 10 miles east of the refuge.

Alternative 3 proposes substantial program increases. The refuge would continue to manage its impoundments intensively by managing water levels and vegetation to create optimum habitat for migrating waterfowl, shorebirds, wading birds, and aquatic organisms. It also would manage marshes and pine forests with prescribed fire and deciduous forests with thinning. The staff would inventory and monitor all habits to document their conditions and assess the effectiveness of management. All wildlife species would be surveyed on a routine basis. The staff would also document the presence of wildlife species as they are found and document the density of invertebrates in moist-soil units. The refuge would allow the six priority public use activities: hunting, fishing, wildlife observation, wildlife photography, and environmental education and interpretation. The staff would conduct extensive environmental education and interpretation programs with the assistance of 15,000 hours of volunteer service every year. The staff would conduct programs on the refuge and in the newly constructed visitor center. Under the alternative, the refuge staff would be increased by 17.75 positions, for a total of 37.45 positions to manage Alligator River Refuge. The staff would manage the refuge from a Service-owned building in Manteo, 10 miles east of the refuge.

Meetings will be held in Manns Harbor, North Carolina, to present the Draft CCP/EA to the public. Mailings, newspaper articles, and postings on the refuge website will be the avenues to inform the public of the dates and times of the meetings. After the review and comment period for the Draft CCP/EA, all comments will be analyzed and considered by the Service. All comments received from individuals on the Draft CCP/EA become part of the official public record. Requests for such comments will be handled in accordance with the Freedom of Information Act and Service and Departmental policies and procedures.

Alligator River National Wildlife Refuge, in northeast North Carolina, consists of 152,260 acres in fee simple ownership. On the refuge, 38,533 acres are pond pine shrub pocosin, 30,400 acres are pond pine cane pocosin, 25,204 acres are brackish marsh, 12,236 acres are non-alluvial hardwood forest, 11,380 acres are mixed pine hardwood forest, and 8,468 acres are Atlantic white cedar swamp. These habitats support a variety of wildlife species, including red wolves, red-cockaded woodpeckers, waterfowl, shorebirds, wading birds, marsh birds, and neotropical migratory songbirds.

The refuge hosts more than 100,000 visitors annually who participate in hunting, fishing, wildlife observation, wildlife photography, and environmental education and interpretation.

Authority: This notice is published under the authority of the National Wildlife Refuge System Improvement Act of 1997, Public Law 105-57.

Dated: April 10, 2006.
Cynthia K. Dohner,
Acting Regional Director.

[FR Doc. 06-4913 Filed 5-26-06; 8:45am]

BILLING CODE 4310-55-M